DEPARTMENT OF HEALTH AND HUMAN SERVICES

Meeting of the Advisory Committee on Blood and Tissue Safety and Availability

AGENCY: Office of the Assistant Secretary for Health, Office of the Secretary, Department of Health and Human Services.

ACTION: Notice.

SUMMARY: As required by the Federal Advisory Committee Act, the U.S. Department of Health and Human Services is hereby giving notice that the Advisory Committee on Blood and Tissue Safety and Availability (ACBTSA) will hold a meeting. The meeting will be open to the public.

At the August ACBTSA meeting, the committee voted to form work groups to further develop and prioritize actionable recommendations to the Assistant Secretary for Health. For this meeting, the committee will discuss and vote on recommendations from the work groups to improve the blood community's response to future public health emergencies.

DATES: The meeting will take place virtually on Friday, September 25, 2020 from approximately 1:00 p.m.-4:00 p.m. ET. Meeting times are tentative and subject to change. The confirmed times and agenda items for the meeting will be posted on the ACBTSA web page at https://www.hhs.gov/oidp/advisory-committee/blood-tissue-safety-availability/meetings/2020-09-25/index.html when this information becomes available.

FOR FURTHER INFORMATION CONTACT: James Berger, Designated Federal Officer for the ACBTSA; Office of Infectious Disease and HIV/AIDS Policy, Office of the Assistant Secretary for Health, Department of Health and Human Services, Mary E. Switzer Building, 330 C Street SW, Suite L600, Washington, DC 20024. Email: ACBTSA@hhs.gov; Phone: 202-795-7608.

SUPPLEMENTARY INFORMATION: The registration link for the meeting will be posted at https://www.hhs.gov/oidp/advisory-committee/blood-tissue-safety-availability/meetings/2020-09-25/index.html when it becomes available. After registering, you will receive an email confirmation.

The public will have an opportunity to present their views to the ACBTSA orally during the meeting's public comment session or by submitting a written public comment. Comments should be pertinent to the meeting discussion. Persons who wish to provide verbal or written public comment should review instructions at https://www.hhs.gov/oidp/advisory-committee/blood-tissue-safety-availability/meetings/2020-09-25/index.html and respond by midnight September 18, 2020 ET. Verbal comments will be limited to three minutes each to accommodate as many speakers as possible.

The ACBTSA provides advice to the Secretary through the Assistant Secretary for Health. The Committee advises on a range of policy issues to include: (1) Identification of public health issues through surveillance of blood and tissue safety issues with national survey and data tools; (2) identification of public health issues that affect availability of blood, blood products, and tissues; (3) broad public health, ethical, and legal issues related to the safety of blood, blood products, and tissues; (4) the impact of various economic factors (e.g., product cost and supply) on safety and availability of blood, blood products, and tissues; (5) risk communications related to blood transfusion and tissue transplantation; and (6) identification of infectious disease transmission issues for blood, organs, blood stem cells and tissues. The Committee has met regularly since its establishment in 1997.

Dated: September 2, 2020.
James J. Berger,
Designated Federal Officer, Advisory Committee on Blood and Tissue Safety and Availability, Office of Infectious Disease and HIV/AIDS Policy.

[FR Doc. 2020-19990 Filed 9-9-20; 8:45 am]

BILLING CODE 4150-28-P